DEPARTMENT OF JUSTICE

Notice of Lodging of Consent Decree Under the Clean Water Act

Notice is hereby given that on June 2, 2010, a proposed Consent Decree (the “Decree”) in United States v. Colaska, Inc. d/b/a QAP, Civil Case No. 3:10-cv-00116-RRB, was lodged with the United States District Court for the District of Alaska.

In a complaint, filed on the same day, the United States alleged that Colaska, Inc., (“Colaska”) was liable, pursuant to Section 309(b) and (d) of the Clean Water Act, 33 U.S.C. 1319(b) and (d), for civil penalties and injunctive relief for violating the Act's requirements governing the discharge of storm water at a road and bridge construction site in Anchorage, Alaska during the summer of 2005, in violation of Section 402 of the Act, 33 U.S.C. 1342.

Pursuant to the Decree, Colaska will (1) pay a civil penalty of $50,000, and (2) undertake various actions which shall adequately train critical employees, and increase the frequency and quality of inspections at active projects, and ensure compliance with storm water regulations.

The Department of Justice will receive, for a period of thirty (30) days from the date of this publication, comments relating to the Decree. Comments should be addressed to the Assistant Attorney General, Environment and Natural Resources Division, and either e-mailed to pubcomment-ees.enrd@usdoj.gov or mailed to P.O. Box 7611, U.S. Department of Justice, Washington, DC 20044-7611, and should refer to United States v. Colaska, Inc., d/b/a QAP, D.J. Ref. 90-5-1-1-08977/2.

During the public comment period, the Decree may be examined on the following Department of Justice Web site, http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $7.75 (25 cents per page reproduction cost) payable to the U.S. Treasury or, if by e-mail or fax, forward a check in that amount to the Consent Decree Library at the stated address.

Maureen Katz,
Assistant Section Chief, Environmental Enforcement Section, Environment and Natural Resources Division.

[FR Doc. 2010-15808 Filed 6-29-10; 8:45 am]

BILLING CODE 4410-15-P